DEPARTMENT OF AGRICULTURE

Forest Service

Game Range (Vegetation Management Project), Lolo National Forest, Sanders County, MT

AGENCY: Forest Service, USDA.

ACTION: Notice of intent to prepare environmental impact statement.

SUMMARY: The USDA, Forest Service, will prepare an environmental impact statement (EIS) to disclose the environmental effects of vegetation treatment through prescribed burning, timber harvest, reforestation, precommercial thinning, and noxious weed spraying in the Maier Gulch, Weber Gulch, Dry Gulch and Ashley Creek drainages (herein referred to as the Game Range project). The 9400-acre project area is located northeast of Thompson Falls from the mouth of Thompson River to Squaw Creek. About half of the area proposed for vegetation treatment is within the Cube Iron-Silcox Inventoried Roadless Area. The southwest analysis area boundary is adjacent to private lands that interface the Thompson Falls community.

Game Range is a joint planning, analysis and implementation project for ecosystem management of Lolo National Forest land and State lands administered by Montana Department of Fish Wildlife and Parks.

The proposed actions of prescribed burning, timber harvest, reforestation, precommercial thinning, and noxious weed treatment are being considered together because they represent either connected or cumulative actions as defined by the Council on Environmental Quality (40 CFR 1508.25). This EIS will tier to the Lolo National Forest Plan Final EIS (April, 1986).

DATES: Written comments and suggestions should be received on or before June 25, 2001.

ADDRESSES: Submit written comments and suggestions on the proposed management activities or a request to be placed on the project mailing list to Lisa Krueger, District Ranger, Plains/Thompson Falls Ranger District, Lolo National Forest, P.O. Box 429, Plains, and Montana, 59859.

FOR FURTHER INFORMATION CONTACT: Frank Yurczyk, EIS Team Leader, Plains/Thompson Falls Ranger District, Lolo National Forest, Phone (406) 826-4313.

SUPPLEMENTARY INFORMATION: The Game Range project area is within T21N, R28W; T21N, R29W; T22N, R29W; PMM.

Purpose and Need of Proposed Activities

The purpose of the proposed activities is to improve ecosystem health through (1) reducing the risk of severe wildlife by reducing fuel loading; (2) improving big game winter range by prescribed burning to stimulate forage production; (3) improving old growth by restoring historically more open stand conditions; and (4) reducing noxious weed presence by direct control and enhancement of native vegetation. Prescribed burning, timber harvest, precommercial thinning, planting and herbicide application would be used to achieve these conditions. Timber harvest is proposed on approximately 1740 acres of forested land that has been designated as suitable for timber management by the Lolo National Forest Plan.

The Lolo National Forest Plan provides the overall guidance for management activities in the project area through its goals, objectives, standards and guidelines, and Management Area direction. The need for these proposed actions is to alter current trends in the forest condition and to regulate, over time, changes in vegetative cover which could adversely affect forest health, fuel build up, watershed stability, wildlife habitat, or timber commodity potential while continuing to provide recreation uses. Timber harvest will help support the economic structure of local communities while contributing to the regional timber supply.

The Forest Service will consider a range of alternatives. One of these will be the “No Action” alternative, in which none of the proposed activities would be implemented. Additional alternatives will examine varying levels and locations for proposed activities in response to issues and other resource values.

The EIS will analyze the direct, indirect and cumulative environmental effects of the alternatives. Past, present and foreseeable activities on private, state, and National Forest lands will be considered to disclose the site specific effects.

Public Participation

Public participation is an important part of the analysis. The public may visit Forest Service officials at any time during the analysis and prior to the decision. Public scoping has been ongoing under the Game Range project. The Forest Service will be seeking additional information, comments, and assistance from Federal, State, and local agencies and other individuals or organizations that may be interested in or affected by the proposed action. An “open house” and a public field meeting have been held; no additional public meetings are scheduled at this time. Additional comments and those previously received from the public on the Game Range project will be used in preparing the Draft EIS. Comments will again be solicited during the Draft EIS comment period.

Issues

A number of issues have already been identified for environmental effects analysis. The following principles issues have been identified so far, to guide alternative development and provide focus for the EIS:

1. Fire has been excluded from the area for the past 80 years. With fire exclusion, total biomass has increased with dense Douglas-fir and few ponderosa pine in the understory. With this change, stands are more susceptible to high intensity wildfires, defoliating insects and root diseases, with wildfires more difficult to control. How would project activities affect these conditions?

2. Big game winter range condition is in a downward trend (low quality forage and increased conifer cover) due to lack of periodic fire. How would prescribed burning and timber harvest affect big game forage conditions?

3. Game Range project lies within the Cabinet/Yaak Grizzley Bear recovery Zone. Would the project affect grizzly bear recovery or other threatened, endangered or sensitive species?

4. The project area forms the backdrop for Thompson Falls and the Clark Fork valley. The scenic character of the landscape is distinctive due to its unique combination of vegetation patterns, rock formations and proximity to the Clark Fork River. How would prescribed burning and timber harvest affect the scenic quality?

5. Most of the project area is within two to three miles of Thompson Falls. How would prescribed burning affect air quality in town and the Clark Fork Valley?

6. Noxious weeds are established on much of the lower part of the analysis area. Would prescribed burning and timber harvest affect conditions, spread of existing weeds or establishment of new weeds in the area? What effect does noxious weed stocking have on big game forage and growing conditions for native plants? How can noxious weed stocking be reduced and native vegetation increased?

7. Approximately 5680 acres of the Game Range analysis area is within the Cube Iron—Silcox Roadless Area. Timber harvest and prescribed burning is proposed with no road construction. Concern for management of the area was expressed both within the agency and during public scoping. What effect would the project have on the roadless resource?

8. Concern has been expressed that complex silvicultural prescriptions that are designed to achieve multi-resource objectives and to be compatible with ecosystem processes, would not be economically feasible. Using prescribed fire in some areas may result in a loss of economically valuable timber. Because there are few roads in the area, 86 percent of the proposed harvest area would need to be helicopter yarded. Is this cost effective? What is the net public cost and benefit of the proposed project including effects on recreation?

Other issues commonly associated with timber harvesting and prescribed burning include effects on cultural resources, soil compaction and nutrients, and other resources. This list will be verified, expanded, or modified based on additional public scoping for this proposal.

Comment Period and Draft EIS Schedule

The Draft EIS is expected to be filed with the Environmental Protection Agency (EPA) and available for public review in July 2001. At that time, the EPA will publish a Notice of Availability of the Draft EIS in the Federal Register. The comment period on the Draft EIS will be 45 days from the date the EPA's notice of availability appears in the Federal Register. It is very important that those interested in management of the Game Range project participate at that time. The Final EIS is scheduled for completion by October 2001.

The Forest Service believes it is important, at this early stage, to give reviewers notice of several court rulings related to public participation in the environmental review process. First, reviewers of draft environmental impact statements must structure their participation in the environmental review of the proposal so its is meaningful and alerts the agency to the reviewer's position and contentions. Vermont Yankee Nuclear Power Corp. v. NRDC, 435 U.S. 519, 553 (1978). Also, environmental objections that could be raised at the draft environmental impact statement stage but are not raised until after completion of the final environmental impact statement may be waived or dismissed by the courts. City of Angoon v. Hodel, 803 F.2d 1016, 1022 (9th Cir. 1986) and Wisconsin Heritages v. Harris, 490 F. Supp. 1334, 1338 (E.D. Wis. 1980). Because of these court rulings, it is very important those interested in this proposed action participate by the close of the 45-day comment period so substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

I am the responsible official for this environmental impact statement. My address is Lolo National Forest, Building 24—Fort Missoula, Missoula, MT 59804.

Dated: May 7, 2001.
Deborah L.R. Austin,
Forest Supervisor.

[FR Doc. 01-13205 Filed 5-24-01; 8:45 am]

BILLING CODE 3410-11-M